INTERNATIONAL TRADE COMMISSION

[Investigation No. 337-TA-1217]

Commission Determination Not To Review an Initial Determination Terminating the Investigation as to Respondents East West Manufacturing, LLC and East West Industries Based on a Consent Order Stipulation; Issuance of Consent Order and Termination of the Investigation; Certain Blowers and Components Thereof

AGENCY: International Trade Commission.

ACTION: Notice.

SUMMARY: Notice is hereby given that the U.S. International Trade Commission has determined not to review an initial determination (“ID”) (Order No. 6) of the presiding administrative law judge (“ALJ”) terminating the investigation with respect to respondents East West Manufacturing, LLC and East West Industries (collectively, “Respondents”) based on a consent order stipulation. The Commission has entered a consent order and terminated the investigation in its entirety.

FOR FURTHER INFORMATION CONTACT: Cathy Chen, Office of the General Counsel, U.S. International Trade Commission, 500 E Street SW, Washington, DC 20436, telephone 202-205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on September 8, 2020, based on a complaint filed on behalf of Regal Beloit America, Inc (“Regal”) of Beloit, Wisconsin. 85 FR 55491-92 (Sep. 8, 2020). The complaint alleges violations of section 337 of the Tariff Act of 1930, as amended, 19 U.S.C. 1337, in the importation into the United States, the sale for importation, or the sale within the United States after importation of certain blowers and components thereof by reason of infringement of one or more of claims 1, 2, 7-10, and 15 of U.S. Patent No. 8,079,834. Id. at 55492. The complaint further alleges that a domestic industry exists. Id. at 55491. The Commission's notice of investigation named as respondents: East West Manufacturing, LLC of Atlanta, Georgia and East West Industries of Binh Duong, Vietnam. Id. at 55492. The Office of Unfair Import Investigations did not participate as a party. Id.

On October 14, 2020, Respondents filed a motion to terminate the investigation with respect to themselves based upon a consent order stipulation. The motion included a consent order stipulation and a proposed consent order.

On October 22, 2020, the ALJ issued the subject ID, granting the motion and terminating the investigation with respect to Respondents based on the entry of a consent order. Order No. 6 at 3 (Oct. 22, 2020). The ID found that the consent order stipulation and proposed consent order complied with Commission Rule 210.21(c)(3) and (4) (19 CFR 210.21(c)(3) and (4)). Id. at 1-3. The ID also found that termination of the investigation with respect to Respondents would not be contrary to the public interest. Id. at 3. No petitions for review of the ID were received.

The Commission has determined not to review the subject ID and to issue a consent order. Respondents are hereby terminated from the investigation. The investigation is terminated in its entirety.

The Commission vote for this determination took place on November 12, 2020.

The authority for the Commission's determination is contained in section 337 of the Tariff Act of 1930, as amended, 19 U.S.C. 1337, and in Part 210 of the Commission's Rules of Practice and Procedure, 19 CFR part 210.

By order of the Commission.
Issued: November 12, 2020.
Lisa Barton,
Secretary to the Commission.

[FR Doc. 2020-25376 Filed 11-17-20; 8:45 am]

BILLING CODE 7020-02-P